DEPARTMENT OF THE INTERIOR

National Park Service

[NPS-WASO-NAGPRA-NPS0037625; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the PMAE has completed an inventory of human remains and associated funerary objects and has determined that there is a cultural affiliation between the human remains and associated funerary objects and Indian Tribes or Native Hawaiian organizations in this notice.

DATES: Repatriation of the human remains and associated funerary objects in this notice may occur on or after April 25, 2024.

ADDRESSES: Patricia Capone, Peabody Museum of Archaeology and Ethnology, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Based on the information available, human remains representing, at least, one individual have been reasonably identified. No associated funerary objects are present. Dr. R.W. Amidon and Oren Pomeroy removed these human remains from the Perch River Bay site in Jefferson County, NY, in 1902. Amidon and Pomeroy donated the individual's remains to the Robert S. Peabody Institute (RSPI) in 1902. In 1937, the RSPI donated the individual's remains to the PMAE. Museum documentation indicates that the Perch River Bay site is located along the shore of Lake Ontario, at the head of Perch River Bay (now known as Black River Bay), in the township of Brownville, southwest of the village of Limerick, on what was then the farm of Julius Maynard. Interments from this site most likely date to the Late Woodland Period (A.D. 1000-1600). Artifacts from the Perch River Bay site, but not associated with the burials, support this date. These items include stylistically diagnostic ceramic rim sherds exhibiting zoned and incised collars with castellated rims.

Based on the information available, human remains representing, at least, one individual have been reasonably identified. The 32 associated funerary objects include 31 objects that are present in the Peabody Museum collections and one object that is currently missing. The 31 present associated funerary objects are one broken canid tooth, one canid jaw, one fox mandible, one raccoon mandible, one incised ceramic pipe bowl, two stone fragments, two worked groundstones, one stone tool, one piece of stone debitage, one bag of soil, 11 ceramic sherds, one lot of ceramic sherds, five lots of faunal remains, one lot of ceramic sherds and faunal remains, and one lot of charcoal, faunal remains, ceramic sherds, and soil. The one associated funerary object currently missing is one lot of faunal remains. The human remains and associated funerary objects were removed from the Durfee Farm site in Jefferson County, NY, by Mark Raymond Harrington and Irwin Hayden in 1906 as part of a Peabody Museum Expedition. Museum documentation indicates that the Durfee Farm site is in the township of Ellisburg, 3 miles north-northwest of the village of Pierrepont Manor, between Taylor Brook and Spring Brook, in the vicinity of a scattered group of farmhouses that were known locally as the “Taylor settlement.” The site lies on a low, flat-topped hill historically known as the “Old Fort lot,” once belonging to the old Durfee farm. Interments from this site most likely date to the Late Woodland Period (A.D. 1000-1600). Artifacts recovered from the site, but not associated with the burials, support this date. These items include Levanna- and Madison-style projectile points, ceramic vessels with globular bodies, constricted, zoned incised necks, and castellated rims, and a variety of terra cotta pipes, including pipes with trumpet-shaped bowls and bowls with representations of human faces and animals.

Based on the information available, human remains representing, at least, one individual have been reasonably identified. The 83 associated funerary objects include 81 objects that are present in the Peabody Museum collections and two objects that are currently missing. The 81 present associated funerary objects are 25 ceramic sherds, two lots of ceramic sherds, one rounded ceramic sherd, 10 ceramic pipe fragments, two bone awls or perforators, three worked animal bones, one drilled stone, one possibly chipped stone, one quartz flake, one quartz pebble, seven rounded or ribbed stones, two ground stones, one celt or adze, one lot of charred wood, one shell, 20 animal bones, and two lots of faunal remains. The two associated funerary objects currently missing are one lot of notched bones and one lot of faunal remains. The human remains and associated funerary objects were removed from the Heath Farm site in Jefferson County, NY, by Mark Raymond Harrington and Irwin Hayden in 1906 as part of a Peabody Museum Expedition. Museum documentation indicates that the Heath Farm site is on the western border of the township of Rodman, approximately 1.5 miles west of the village of Rodman, along the northern bank of the North Sandy Creek. Interments from this site most likely date to the Late Woodland Period (A.D. 1000-1600). Artifacts recovered from the site, but not associated with the burials, support this date. These items include Levanna- and Madison-style projectile points, ceramic vessels with globular bodies, constricted, zoned incised necks, and castellated rims, and a variety of terra cotta pipes, including pipes with trumpet-shaped bowls and bowls with representations of human faces and animals.

Cultural Affiliation

Based on the information available and the results of consultation, cultural affiliation is clearly identified by the information available about the human remains and associated funerary objects described in this notice.

Determinations

The PMAE has determined that:

• The human remains described in this notice represent the physical remains of three individuals of Native American ancestry.

• The 115 objects described in this notice are reasonably believed to have been placed intentionally with or near individual human remains at the time of death or later as part of the death rite or ceremony.

• There is a reasonable connection between the human remains and associated funerary objects described in this notice and the Oneida Indian Nation; Oneida Nation; and the Onondaga Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 25, 2024. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: March 15, 2024.
Melanie O'Brien,
Manager, National NAGPRA Program.

[FR Doc. 2024-06270 Filed 3-25-24; 8:45 am]

BILLING CODE 4312-52-P